SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Director for Reports Clearance to the addresses or fax numbers shown below.

(OMB) Office of Management and Budget, Attn: Desk Officer for SSA, Fax: 202-395-6974, E-mail address: OIRA_Submion@omb.eop.gov.

(SSA) Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than February 26, 2010. Individuals can obtain copies of the collection instrument by calling the SSA Director for Reports Clearance at 410-965-0454 or by writing to the above email address.

1. Request to Resolve Questionable Quarters of Coverage (QC); Request for QC History Based on Relationship— 0960-0575. States use the information from Form SSA-512 to request clarification from SSA on questionable QC information. The Personal Responsibility and Work Opportunity Reconciliation Act states that aliens admitted for lawful residence who have worked and earned 40 qualifying QCs for Social Security purposes can generally receive state benefits. States use the information from Form SSA-513 to request QC information for an alien's spouse or child in cases where the alien does not sign a consent form giving permission to access his/her Social Security records. QCs can also be allocated to a spouse and/or to a child under age 18, if needed, to obtain 40 qualifying QCs for the alien. The respondents are state agencies that require QC information to determine eligibility for benefits.

Type of Request: Extension of an OMB-approved information collection.

Form Number | Number of respondents | Frequency of response | Average burden per response (minutes) | Total annual burden (hours)
SSA-512 | 25,000 | 1 | 2 | 834
SSA-513 | 25,000 | 1 | 2 | 834
Totals | 50,000 |  |  | 1,668

2. Statement for Determining Continuing Eligibility Supplemental Security Income Payment—20 CFR 416.204—0960-0145. SSA uses the information from Form SSA-8202-BK to a conduct low- and middle-error-profile telephone or face-to-face redeterminination interviews with Supplemental Security Income (SSI) recipients and representative payees. The information SSA collects during the interview is necessary to determine whether SSI recipients have met and continue to meet all statutory and regulatory requirements for SSI eligibility and whether they have been, and are still receiving, the correct payment amount.

Type of Request: Revision of an OMB-approved information collection.

Form Number | Number of respondents | Frequency of response | Average burden per response (minutes) | Total annual burden (hours)
SSA-8202-BK | 1,000,000 | 1 | 21 | 350,000
MSSICS | 201,328,000 | 1 | 20 | 67,109,333
Totals | 202,328,000 |  |  | 67,459,333

II. SSA has submitted the information collections listed below to OMB for clearance. Your comments on the information collections would be most useful if OMB and SSA receive them within 30 days from the date of this publication. To be sure we consider your comments, we must receive them no later than January 27, 2010. You can obtain a copy of the OMB clearance packages by calling the SSA Director for Reports Clearance at 410-965-0454 or by writing to the above email address.

1. Certificate of Support—20 CFR 404.370, 404.750, 404.408a—0960-0001. A parent of a deceased, fully insured worker may be entitled to Title II benefits on the earnings record of the deceased worker under certain conditions. One of the conditions is the parent must have received at least one-half support from the deceased worker. The one-half support requirement also applies to a spouse applicant in determining whether Title II benefits are subject to Government Pension Offset (GPO). SSA uses the information from Form SSA-760-F4 to determine whether the parent of a deceased worker or a spouse applicant meets the one-half support requirement. Respondents are parents of deceased workers or spouses who may be exempt from GPO.

Note: This is a correction notice. SSA published this information collection as an extension on October 26, 2009, at 74 FR 55080. Since we are revising the Privacy Act Statement, this is now a revision of an OMB-approved information collection.

Type of Request: Revision of an OMB-approved information collection.

Number of Respondents: 18,000.

Frequency of Response: 1.

Average Burden per Response: 15 minutes.

Estimated Annual Burden: 4,500 hours.

2. Reporting Changes that Affect Your Social Security Payment—20 CFR 404.301-305, 404.310-311, 404.330-.333, 404.335-.341, 404.350-.352, 404.468—0960-0073. SSA collects the information on the SSA-1425 to determine continuing entitlement to Title II Social Security benefits and to determine the proper benefit amount. The respondents are Social Security beneficiaries receiving SSA retirement, disability, or survivor's auxiliary benefits who need to report an event that could affect payments.

Type of Request: Revision of an OMB-approved information collection.

Number of Respondents: 70,000.

Frequency of Response: 1.

Average Burden per Response: 5 minutes.

Estimated Annual Burden: 5,833 hours.

3. Child Relationship Statement—20 CFR 404.355 & 404.731—0960-0116. SSA collects information on the SSA-2519 to help determine a child's entitlement to Social Security benefits under section 216(h)(3) (deemed child provision) of the Social Security Act. An insured individual's child may be deemed his or her child if: (1) The insured individual is shown by evidence satisfactory to SSA to be the child's parent and was living with or contributing to the child's support at certain specified times; or (2) the insured individual acknowledged the child in writing or the court decreed the individual to be the child's parent or ordered the individual to support the child. Respondents are persons with knowledge of the relationship between an individual and his/her alleged biological child who is filing for benefits.

Type of Request: Revision of an OMB-approved information collection.

Number of Respondents: 50,000.

Frequency of Response: 1.

Average Burden per Response: 15 minutes.

Estimated Annual Burden: 12,500 hours.

4. Pre-1957 Military Service—Federal Benefit Questionnaire—20 CFR 404.1301-404.1371—0960-0120. Sections 217(a) through (e) of the Social Security Act provide for crediting military service before 1957 to the wage earner's record. Form SSA-2512 collects specific information about other Federal, military, or civilian benefits the wage earner may receive when the applicant indicates both pre-1957 military service and the receipt of a Federal benefit. SSA uses the data in the claims adjudication process to grant gratuitous military wage credits when applicable, and to solicit sufficient information to determine eligibility. Respondents are applicants for Social Security benefits on a record where the wage earner has pre-1957 military service.

Note: This is a correction notice. SSA published this information collection as an extension on October 26, 2009 at 74 FR 55080. Since we are revising the Privacy Act Statement, this is now a revision of an OMB-approved information collection.

Type of Request: Revision of an OMB-approved information collection.

Number of Respondents: 5,000.

Frequency of Response: 1.

Average Burden per Response: 10 minutes.

Estimated Annual Burden: 833 hours.

5. Application of Circuit Court Law—20 CFR 404.985 & 416.1458—0960-0581. SSA collects certain information provided in readjudication requests it receives from persons claiming the application of an acquiescence ruling (AR) would change a prior determination or decision. SSA uses this information to determine whether persons are entitled to readjudication of their claims in accordance with Social Security regulations. SSA reviews the information in the requests to determine whether the issue(s) stated in the AR pertains to the claimant's case. If readjudication is appropriate, SSA considers only those issue(s) the AR covers. Any new determination or decision is subject to administrative or judicial review as specified in the regulations. Respondents are claimants for Social Security benefits and SSI payments who request readjudication.

Type of Request: Extension of an OMB-approved information collection.

Number of Respondents: 10,000.

Frequency of Response: 1.

Average Burden Per Response: 17 minutes.

Estimated Annual Burden: 2,833 hours.

Dated: December 21, 2009.
Elizabeth A. Davidson,
Director, Center for Reports Clearance, Social Security Administration.

[FR Doc. E9-30633 Filed 12-24-09; 8:45 am]

BILLING CODE 4191-02-P